ENVIRONMENTAL PROTECTION AGENCY

[EPA-HQ-OPPT-2006-0199;FRL-7767-6]

Source Reduction Assistance Grants Program for Seven of the Regional Pollution Prevention Program Offices; Notice of Availability

AGENCY: Environmental Protection Agency (EPA).

ACTION: Notice.

SUMMARY: EPA is announcing the availability of grant funds to States, Tribes, Intertribal Consortia, local governments, colleges/universities and non-profits in fiscal year (FY) 2006 under the Source Reduction Assistance (SRA) Grants Program. The program will support source reduction/pollution prevention projects that address the reduction or elimination of pollution at the source across all environmental media: Air, land, and water. EPA will issue SRA awards under the statutory authorities of the Clean Air Act, section 103(b) and (g); Clean Water Act, section 104(b)(3); Federal Insecticide, Fungicide, and Rodenticide Act, section 20; Safe Drinking Water Act, section 1442 (a)(1) and (c); Solid Waste Disposal Act, section 8001(a); and Toxic Substances Control Act, section 10. The total amount of funding available in FY 2006 is up to $163,000 for each of the seven participating EPA regional program offices or approximately $1.14 million in total funding. SRA awards will support pollution prevention activities during the FY 2006-2007 budget cycle. The maximum funding level per project is $100,000. You may access the full text of the grant announcement at http://www.epa.gov/oppt/p2home/grants/index.htm

DATES: For specific regional submission dates for proposals, please refer to the grant announcement at http://www.epa.gov/oppt/p2home/grants/index.htm.

FOR FURTHER INFORMATION CONTACT: Michele Amhaz, Pollution Prevention Division (7409M), Office of Pollution Prevention and Toxics, Environmental Protection Agency, 1200 Pennsylvania Ave., NW., Washington, DC 20460-0001; telephone number: (202) 564-8857; fax number: (202) 564-8899; e-mail address: amhaz.michele@epa.gov.

SUPPLEMENTARY INFORMATION:

I. General Information

A. Does this Action Apply to Me?

This action is directed to States, Federally-recognized Tribes, Intertribal Consortia, local governments, independent school districts, public and private colleges/universities and non-profits. This notice may, however, be of interest to for-profit entities and individuals, who are not eligible to apply for funding under this program. If you have any questions regarding the applicability of this action to a particular entity, consult the person listed under FOR FURTHER INFORMATION CONTACT.

B. How Can I Get Copies of this Document and Other Related Information?

1. Docket. EPA has established a docket for this action under docket identification (ID) number EPA-HQ-OPPT-2006-0199. Publicly available docket materials are available electronically at http://www.regulations.gov or in hard copy at the OPPT Docket, EPA Docket Center (EPA/DC), EPA West, Room B102, 1301 Constitution Ave., NW., Washington, DC. The EPA Docket Center Public Reading Room is open from 8:30 a.m. to 4:30 p.m., Monday through Friday, excluding legal holidays. The telephone number for the Public Reading Room is (202) 566-1744, and the telephone number for the OPPT Docket is (202) 566-0280.

2. Electronic access. You may obtain electronic copies of this document through the EPA Internet under the “Federal Register” listings at http://www.epa.gov/fedrgstr/. You may access copies of the grant announcement at http://www.epa.gov/oppt/p2home/grants/index.htm.

II. Overview

The following listing provides certain key information concerning the proposal opportunity.

• Federal agency name: Environmental Protection Agency.

• Funding opportunity title: Source Reduction Assistance Grants Program.

• Funding opportunity number: EPA-OPPT-06-008.

• Announcement type: The initial announcement of a funding opportunity.

• Catalog of Federal Domestic Assistance (CFDA) number: 66.717.

• Dates: For specific regional submission dates for proposals, please refer to the grant announcement at http://www.epa.gov/oppt/p2home/grants/index.htm.

For detailed information concerning the grant announcement refer to the Agency website at http://www.epa.gov/oppt/p2home/grants/index.htm. The full text of the grant announcement includes specific information regarding the: Purpose and scope; activities to be funded; award information; eligibility requirements; application and submission information; award review information; and regional agency contacts if applicable.

List of Subjects

Environmental protection, Grants, Pollution prevention.

Dated: May 11, 2006.
Susan B. Hazen,
Acting Assistant Administrator, Office of Prevention, Pesticides and Toxic Substances.

[FR Doc. E6-7952 Filed 5-23-06; 8:45 am]

BILLING CODE 6560-50-S